DEPARTMENT OF ENERGY

Bonneville Power Administration

Shelton-Kitsap Transmission Line Rebuild Project

AGENCY: Bonneville Power Administration (BPA), Department of Energy (DOE).

ACTION: Notice of Floodplain and Wetlands Involvement.

SUMMARY: This notice announces BPA's proposal to rebuild its existing Shelton-Kitsap No.2 115-kV transmission line as a double circuit 230-kV line in the existing right-of-way in floodplain and wetlands located in Mason and Kitsap Counties, Washington. In accordance with DOE regulations for compliance with floodplain and wetlands environmental review requirements, BPA will prepare a floodplain and wetlands assessment and will perform this proposed action in a manner so as to avoid or minimize potential harm to or within the affected floodplain and wetlands. The assessment will be included in the environmental assessment being prepared for the proposed project in accordance with the requirements of the National Environmental Policy Act. A floodplain statement of findings will be included in any finding of no significant impact that may be issued following the completion of the environmental assessment.

DATES: Comments are due to the address below no later than October 2, 2000.

ADDRESSES: Submit comments to Communications, Bonneville Power Administration—KC-7, P.O. Box 12999, Portland, Oregon 97212. Internet address: comment@bpa.gov.

FOR FURTHER INFORMATION CONTACT: Dawn R. Boorse—KECN-4, Bonneville Power Administration, P.O. Box 3621, Portland, Oregon, 97208-3621, phone number 503-230-5678, fax number 503-230-5699.

SUPPLEMENTARY INFORMATION: The BPA Shelton-Kitsap transmission line rebuild would cross the 100-year floodplains of John's Creek (T20N, R3W, Section 5), Cranberry Creek (T21N, R3W, Section 34), and Sherwood Creek (T22N, R2W, Section 35), and a total of 31 wetlands were identified within the cleared right-of-way.

Maps and further information are available from BPA at the address above.

Issued in Portland, Oregon, on September 8, 2000.
Thomas C. McKinney,
NEPA Compliance Officer.

[FR Doc. 00-23767 Filed 9-14-00; 8:45 am]

BILLING CODE 6450-01-P